FEDERAL RETIREMENT THRIFT INVESTMENT BOARD

Sunshine Act; Notice of Meeting

DATE AND TIME: December 19, 2016, Telephonic, 10:00 a.m.

PLACE: 10th Floor Board Meeting Room, 77 K Street NE., Washington, DC 20002.

Agenda: Federal Retirement Thrift Investment Board Member Meeting.

STATUS: All parts will be open to the public.

MATTERS TO BE CONSIDERED:

Open Session

1. Approval of the minutes for the November 29, 2016 Board Member Meeting

2. Monthly Reports

(a) Participant Activity Report

(b) Legislative Report

(c) Investment Performance and Policy Report

3. Vendor Financials

4. Office of the General Counsel Report

CONTACT PERSON FOR MORE INFORMATION: Kimberly Weaver, Director, Office of External Affairs, (202) 942-1640.

Dated: December 6, 2016.
Megan Grumbine,
General Counsel, Federal Retirement Thrift Investment Board.

[FR Doc. 2016-29681 Filed 12-7-16; 11:15 am]

BILLING CODE 6760-01-P